FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, D.C. 20573.

.

AM Worldwide, Inc. (OFF & NVO) 2928 B Greens Road, #450, Houston, TX 77032, Officers: Anthony J. Mello, President (Qualifying Individual), Michele Walsh, Secretary/Vice President, Application Type: Add NVO Service.

A.W.L.I. Group, Inc. dba Amber Worldwide Logistics, Inc. (OFF & NVO), 1358 NW 78th Avenue, Miami, FL 33126, Officers: Elaine Rosendorf, President (Qualifying Individual), Keith Milliner, Vice President, Application Type: Add NVO Service.

Aztec Marine Agencies, Inc. dba Beaumont Logistics Group (OFF), 1485 Wellington Circle, Suite 101, Beaumont, TX 77706, Officers: Rosemary Asta, President (Qualifying Individual), Christopher W. Asta, Vice President, Application Type: New OFF License.

Chem-Star Global Logistics, LLC (OFF & NVO), 6133 Edith Blvd., NE., Albuquerque, NM 87107, Officers: Terry L. Strohl, Operations Manager (Qualifying Individual), William W. Moore, Member, Application Type: New OFF & NVO License.

Concept Cargo Freight and Logistics Inc (NVO), 8952 NW 24th Terrace, Miami, FL 33172, Officers: Marcos A. Bacan, President (Qualifying Individual), Milton Rocha, Vice President/Secretary, Application Type: New NVO License.

Crowley Logistics Inc. (OFF & NVO), 9487 Regency Square Blvd., Jacksonville, FL 32225, Officers: Ronald D. Stalvey, Export Compliance Officer (Qualifying Individual), Thomas B. Crowley, Jr., Chairman/President/CEO, Application Type: QI Change.

Disham Logistics LLC (OFF), 168-01 Rockaway Blvd., Suite 204, Jamaica, NY 11434, Officer: Sadiah Mohammed, Member (Qualifying Individual), Application Type: New OFF License.

Foljin International Group, Inc. (OFF), 4344 Meadow Mills Road, Owings Mills, MD 21117, Officers: Fola Jinadu, President/CEO (Qualifying Individual), Tim Olu-Ajayi, Vice President, Application Type: New OFF License.

Global Marine Transportation Inc. (OFF & NVO), 1601 Third Avenue, Suite 22KW, New York, NY 10128, Officers: Gloria P. Avendano, President (Qualifying Individual), Stewart Feuer, Vice President, Application Type: Add OFF Service.

Global Port Ship Lines, Inc. (OFF), 103 E 3rd Street, Bevington, IA 50033, Officers: Timothy F. Pontier, President/Treasurer/Secretary (Qualifying Individual), Lisa J. Pontier, Vice President, Application Type: New OFF License.

IDS Freight Services USA LLC dba AGI Logistics dba AGI Logistics USA dba IDS Freight Services (NVO), 230-59 International Airport Center Blvd., Suite 270, Jamaica, NY 11413, Officers: Elaine Rosendorf, President (Qualifying Individual), Keith Milliner, Vice President, Application Type: Add NVO Service.

Jacob Fleishman Transportation, Inc. (OFF & NVO), 1177 NW 81st Street, Miami, FL 33150, Officers: Karen Azari, Secretary (Qualifying Individual), Roy Fleishman, President, Application Type: Add NVO Service.

Jimmy C. Hsueh dba Sonic Express (OFF), 651 N. El Camino Real, #304, San Mateo, CA 94401, Officer: Jimmy C. Hsueh, Sole Proprietor (Qualifying Individual), Application Type: New OFF License.

Karakorum Services, Inc. (OFF & NVO), 6045 NW 87th Avenue, Miami, FL 33178, Officer: Mayela J. Luzardo, President/Director/Secretary (Qualifying Individual), Application Type: New OFF & NVO License.

Lighthouse Freight International, Inc. (NVO), 440 Benmar Drive, Suite 2090, Houston, TX 77060, Officer: Luis Carranza, President (Qualifying Individual), Application Type: License Transfer.

Manila Forwarders USA Corp. (OFF & NVO), 4249 Eagle Rock Blvd., Los Angeles, CA 90065, Officer: Manuel O. Paez, President/CFO/Secretary (Qualifying Individual), Application Type: Business Structure Change.

Ocean Shipping Corporation (OFF), 9115 S.W. 123 Avenue Ct., Miami, FL 33186, Officers: Alberto E. Puentes, President (Qualifying Individual), Denise M. Puentes, Vice President/Secretary, Application Type: New OFF License.

Science Logistics Corp. (OFF & NVO), 3705 NW 115 Avenue, #8, Doral, FL 33178, Officers: Andrea K. Cavalcante, Secretary (Qualifying Individual), Maria C. Amorin, President/Treasurer, Application Type: New OFF & NVO.

Top Shipping Systems Corp. (OFF & NVO), 8570 NW 68th Street, Miami, FL 33166, Officers: Issac B. Morales, General Manager/Corporate Secretary (Qualifying Individual), Tony R. Diaz, President, Application Type: New OFF & NVO.

Tri-Vi-U.S. Logistics Ltd. (OFF & NVO), 20 W. Lincoln Avenue, Suite 307, Valley Stream, NY 11580, Officers: Yehudit Gabbay Turgeman, Vice President/Corporate Secretary (Qualifying Individual), Uri Yaron, President, Application Type: New OFF & NVO License.

Universal Freight Forwarders, Ltd. dba LCL North America (OFF), 18290 Andover Park West, Suite A, Tukwila, WA 98188, Officers: Rosana B. Brown, Treasurer (Qualifying Individual), Kazuhiko Sotome, Director/COB, Application Type: QI Change/Trade Name Change.

Vantec World Transport (USA), Inc. (OFF & NVO), 991 Francisco Street, Torrance, CA 90502, Officers: Yoshiaki Nagai, FMC License Qualifying Officer (Qualifying Individual), Junri Oda, Director/President/CEO, Application Type: QI Change.

Yang Kee Logistics USA Inc. (NVO), 880 Apollo Street, Suite 101, El Segundo, CA 90245, Officers: Peter Porse, President/Director (Qualifying Individual), Ken Koh, Vice President/Director, Application Type: New NVO License.

Dated: June 11, 2010.
Karen V. Gregory,
Secretary.

[FR Doc. 2010-14532 Filed 6-15-10; 8:45 am]

BILLING CODE 6730-01-P